DEPARTMENT OF HEALTH AND HUMAN SERVICES

Centers for Disease Control and Prevention

[60Day-02-62]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404)498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: National Health Care Provider Survey on Genital Human Papillomavirus Infection—NEW—National Center for HIV, STD, and TB Prevention (NCHSTP), Centers for Disease Control and Prevention (CDC). CDC is proposing to conduct a national survey of health care providers' knowledge, attitudes, and practices in caring for patients at risk for or infected with genital human papillomavirus (HPV).

Genital HPV infection is common among sexually active populations. An estimated 50 percent of sexually active adults have been infected with one or more genital HPV types, making this the most common sexually transmitted infection in the United States (Cates, 1999). Many health care providers may not be aware of data demonstrating the high prevalence of this sexually transmitted virus, the association of certain HPV types with various clinical manifestations including cervical and other anogenital cancers, or the type-specific natural history of HPV infection. To date, however, no nationally representative qualitative or quantitative surveys have measured health care providers' knowledge, attitudes, and practices about genital HPV infection.

The CDC proposes to fill that gap through a national sample survey of clinicians in 13 specialties who care for substantial numbers of sexually active patients at risk for acquiring HPV, infected with genital HPV, or that have at least one of two clinical manifestations of HPV infection, cervical neoplasia or anogenital warts. The group of clinicians includes primary care clinicians, as well as selected specialists to whom patients with genital HPV infection, cervical neoplasia, or anogenital warts may be referred for HPV diagnosis, treatment, or management. These will include 11 physician specialties, pediatrics, obstetrics/gynecology, family and general practice, internal medicine, infectious disease, oncology, gynecologic oncology, dermatology, urology, colorectal surgery; and three mid-level provider specialties, nurse practitioners, certified nurse midwives, and physician assistants.

The survey will be sent to 730 clinicians of each specialty, totaling 9,490 clinicians. An 80 percent response rate is anticipated, and 23 percent of these are expected to be ineligible for various reasons (e.g., retired, deceased, no patient care), resulting in a total of 5,850 completed surveys. The survey will provide baseline information on practicing clinicians' knowledge, attitudes and practices concerning patients at risk for or infected with HPV. The survey findings will be used to inform CDC initiatives and recommendations for HPV control including appropriate practices for HPV testing, referral and clinical management, counseling, patient education, sex partner services, and clinician training and education in these areas. The information gathered from the survey will also provide a valuable knowledge base to guide the development and implementation of interventions to improve the prevention, control, and management of genital HPV infection in the U.S.

Data collection will involve a mail survey of a stratified random sample of practicing clinicians in 13 specialties. A reminder postcard will follow the survey mailing after one week, a second mailing to non-respondents at four weeks, a third mailing to non-respondents at seven weeks, and a final mailing to non-respondents at ten weeks. A study specific computerized tracking and reporting system will monitor all phases of survey mailings. Receipt of the completed survey or a refusal will be logged into this computerized tracking system to ensure that respondents who return the survey or decline participation will not be contacted with reminders. There are no costs to respondents.

Respondents | Number of respondents | Number of responses/respondent | Average burden/response (in hours) | Total burden (in hours)
Office Managers | 1742 | 1 | 2/60 | 58
Clinicians | 5850 | 1 | 20/60 | 1950
Total |  |  |  | 2035

Dated: June 13, 2002.
Nancy E. Cheal,
Acting Associate Director for Policy, Planning and Evaluation, Centers for Disease Control and Prevention.

[FR Doc. 02-15496 Filed 6-19-02; 8:45 am]

BILLING CODE 4163-18-P